DEPARTMENT OF AGRICULTURE

Forest Service

Proposed Amendment of Rogue River, Umpqua and Winema National Forest (NF) Land and Resource Management Plans for the Pacific Connector Gas Pipeline

AGENCY: Forest Service, USDA.

ACTION: Notice of intent to prepare an environmental impact statement for Land and Resource Management Plan amendments.

SUMMARY: The USDA Forest Service is proposing to amend the Land and Resource Management Plans (LRMP) of the Rogue River (administered as the Rogue River-Siskiyou NF), Umpqua, and Winema (administered as the Fremont-Winema NF) National Forests to make provision for the proposed Pacific Connector Gas Pipeline (PCGP). The Federal Energy Regulatory Commission (FERC) is the lead agency for the environmental analysis of the construction and operation of the proposed natural gas pipeline (FERC Docket No. CP07-441-000). The FERC has prepared an environmental impact statement (EIS) that discusses the environmental impacts that could result from the construction and operation of the PCGP. FERC issued the FEIS for the PCGP on May 1, 2009.

The U.S. Department of Agriculture, Forest Service is a Cooperating Agency with the FERC in environmental analysis and preparation of the EIS for the PCGP. Certain features of the PCGP Project could not be made consistent with the LRMPs of the Rogue River, Umpqua and Winema National Forests because of the nature of pipeline construction. Therefore, in order to comply with the requirements of the National Forest Management Act (NFMA) the Forest Service must amend these LRMPs to make provision for the PCGP.

DATES: Comments concerning the scope of the analysis must be received by 30 days from the date this notice is published in the Federal Register. The draft environmental impact statement for amendment of forest plans is expected to be published in August, 2009 and the final environmental impact statement is expected in December, 2009.

ADDRESSES: Send written comments to: Pam Sichting, Umpqua National Forest, 2900 NW. Stewart Parkway, Roseburg, OR 97471. Comments may also be sent via e-mail to: comments-pacificnorthwest-umpqua@fs.fed.us, or via facsimile to 541-957-3495. Comments may be hand-delivered to the above address Monday through Friday, from 8 a.m. till 4:30 p.m., excluding legal holidays.

Comments received in response to this solicitation, including names and addresses of those who comment, will be part of the public record for this proposed action. Comments submitted anonymously will be accepted and considered; however, anonymous comments will not provide the respondent with standing to appeal the subsequent decision.

FOR FURTHER INFORMATION CONTACT: Pam Sichting at 541-957-3342 or by e-mail at psichting@fs.fed.us. Individuals who use telecommunication devices for the deaf (TDD) may call the Federal Information Relay Service (FIRS) at 1-800-877-8339 between 8 a.m. and 8 p.m., Eastern Time, Monday through Friday.

Information concerning the construction and operation of the PCGP is contained in the FERC Jordon Cove-Pacific Connector Gas Pipeline Project Final Environmental Impact Statement. Also information about the Project is available from the FERC Office of External Affairs at 1-866-208 FERC (3372) or on the FERC Internet Web site (http://www.ferc.gov) using the eLibrary link. Click on the eLibrary link, click on “General Search,” and enter the docket number (CP07-441-000) excluding the last three digits in the Docket. For assistance, please contact FERC Online Support at FercOnlineSupport@ferc.gov or toll free at 1-866-208-3676, or for TTY, contact (202) 502-8659. The eLibrary link on the FERC Internet Web site also provides access to the texts of final documents issued by the Commission, such as Orders, notices, and rule makings.

Finally, PCGP has established a Web site for this project at http://www.pacificconnectorgp.com/. The Web site includes a project overview, timeline, safety and environmental information, and answers to frequently asked questions. You can also request additional information by e-mailing PCGP at pacificconnector@williams.com or by phone at 866-227-9249.

SUPPLEMENTARY INFORMATION:

Purpose and Need for Action

Jordon Cove—Pacific Connector LP (Company) has proposed to construct a 36 inch natural gas pipeline from a liquified natural gas terminal at Coos Bay, Oregon, to an interstate gas transmission pipeline at Malin, Oregon. The PCGP will provide natural gas to southern Oregon, the Willamette Valley, California and Nevada. The Company submitted its application for the Pacific Connector Gas Pipeline (PCGP) project to the FERC on September 4, 2007. The applications were noticed in the Federal Register on September 13, 2007. The FERC authorizes the construction and operation of natural gas pipelines upon its determination that the pipeline fulfills a public need. The PCGP is proposed to cross the Rogue River, Umpqua and Winema National Forests on its route between Coos Bay and Malin, Oregon. Transmission of natural gas is a legitimate use of public land consistent with the Natural Gas Act, the Energy Policy Act of 2005 and the Forest Service's National Strategic Plan, 2007-2012.

A Notice of Intent (NOI) was issued by the FERC for construction and operation of the PCGP on June 23, 2006. Subsequently, a Draft Environmental Impact Statement (DEIS) was made available to the public on August 29, 2008. The public comment period on the DEIS closed on December 4, 2008. The FERC, as lead Federal agency, issued the Jordan Cove-Pacific Connector Gas Pipeline Final Environmental Impact Statement (FEIS) on May 1, 2009. For portions of the proposed PCGP that cross National Forest System lands, the Forest Service was a cooperating agency with the FERC in preparing the EIS for the Project. The FERC will use this FEIS to determine whether to issue a Certificate of Public Convenience and Necessity (Certificate). The Certificate authorizes construction and operation of the PCGP.

The Bureau of Land Management (BLM) issues and administers natural gas pipeline Right of Way Grants across all Federal lands, including the Forest Service, under the Mineral Leasing Act. The PCGP must have a Right of Way Grant to occupy any Federal lands in addition to the FERC's Certificate. To issue a Right of Way Grant across NFS lands, the BLM must obtain the consent of the Forest Service.

The National Forest Management Act (NFMA) requires all projects or activities on a given National Forest to be consistent with that Forest's LRMP. Certain features of this project could not be made consistent with the LRMPs of the Rogue River, Umpqua and Winema National Forests because of the nature of pipeline construction. Therefore, the Forest Service must amend these LRMPs in order to comply with the requirements of NFMA prior to consenting to the BLM's issuance of a Right of Way Grant. This Notice of Intent is for preparation of an EIS by the Forest Service that will consider and disclose the significance of these proposed amendments pursuant to 36 CFR 219.10(f)(1982 Version). The issue of whether a plan amendment is significant is guided by several factors, including the timing and duration of the proposed change, the location and size of the project, and how the proposed change may alter multiple-use goals and objectives for long-term land and resource management. In this analysis of significance, the Forest Service will rely on the FERC EIS for consideration of environmental consequences of construction and operation of the PCGP. These amendments of Forest Plans will only be implemented if the FERC authorizes the PCGP.

Proposed Action

This Proposed Action is to amend the LRMPs of the Rogue River, Umpqua and Winema National Forests to make provision for the PCGP.

Rogue River NF LRMP—The Forest Service proposes to amend the Rogue River NF LRMP as follows:

• By establishing a Forest Plan objective that states: While considering other multiple use values, the Forest shall facilitate and make provision for energy transmission via the Pacific Connector Gas Pipeline consistent with the Energy Policy Act of 2005, the Mineral Leasing Act, the Natural Gas Act, the Multiple Use Sustained Yield Act and the National Forest Management Act.

• By changing the designation of approximately 600 acres from the matrix land allocation to the LSR 227 land allocation. Standards and Guidelines for Developments in Late Successional Reserves (LSRs) require that new developments that may adversely affect LSRs be minimized or mitigated (see Standards and Guidelines for Management of Habitat for Late-Successional and Old-Growth Related Species Within the Range of the Northern Spotted Owl, Page C-17). This change in land allocation is proposed to mitigate the potential adverse impact of the PCGP on LSR 227 on the Rogue River National Forest. This amendment would change future management direction for the lands transferred from matrix to LSR. Additional mitigations for impacts to LSRs are included in the FERC FEIS in Appendix L for the PCGP.

• By changing the Visual Quality Objective (VQO) in the vicinity where the 75 foot wide PCGP Right of Way crosses the Big Elk Road from Foreground Retention to Foreground Partial Retention and allowing ten to fifteen years for amended visual quality objectives to be attained. Existing Standards and Guidelines for VQO in foreground retention where the PCGP crosses the Big Elk Road require VQO's be met within 1 year of completion of the project and that management activities not be visually evident (Rogue River NF LRMP, Page 4-72, Management Area 6). This amendment applies only to the Right of Way of the PCGP in the vicinity of the Big Elk Road and does not change future management direction for any other project. Additional mitigations for impacts to scenic resources are included in the PCGP FEIS Appendix L.

• By changing the Visual Quality Objective in the vicinity where the 75 foot wide PCGP Right of Way crosses the Pacific Crest Trail (PCT) from Foreground Partial Retention to modification and allowing ten to fifteen years for amended visual quality objectives to be attained. Existing Standards and Guidelines for Visual Quality Objectives in Foreground Partial Retention (Rogue River NF LRMP, Page 4-86, Management Area 7) where the PCGP crosses the Pacific Crest Trail, requires visual mitigations to meet the stated visual quality objective within 2 years of the completion of the project and that management activities be visually subordinate to the landscape. This amendment applies only to the Right of Way of the PCGP in the vicinity of the Pacific Crest Trail and does not change future management direction. Additional mitigations for visual impacts are included in the PCGP FEIS Appendix L.

• By waiving restrictions on detrimental soil conditions from displacement and compaction within the Right of Way of the PCGP in all management areas. Standards and Guidelines for detrimental soil impacts in all affected management areas require that no more than 10% of the activity area be detrimentally compacted, puddled or displaced upon completion of a project. Additional mitigations for detrimental soil conditions are in the PCGP FEIS in Appendix L.

• By allowing the PCGP to cross the Restricted Riparian land allocation. This potentially affects two perennial streams and approximately 0.7 of an acre of the Restricted Riparian land allocation. Standards and Guidelines for the Restricted Riparian land allocation (Rogue River NF LRMP, page 4-308, Management Area 26) states that transmission corridors should be located outside of this management area. This amendment applies only to the project area of the PCGP and does not change future management direction. Mitigations for potential adverse impacts to the Restricted Riparian land allocation are included in the PCGP FEIS in Appendix L.

Umpqua NF LRMP—The Forest Service proposes to amend the Umpqua NF LRMP as follows:

• By changing the designation of approximately 585 acres from the matrix land allocation to the LSR 223 land allocation. Standards and Guidelines for Developments in Late Successional Reserves (LSRs) require that new developments that may adversely affect LSRs be minimized or mitigated (see Standards and Guidelines for Management of Habitat for Late-Successional and Old-Growth Related Species Within the Range of the Northern Spotted Owl, Page C-17). This change in land allocation is proposed to mitigate the potential adverse impact of the PCGP on LSR 223 on the Umpqua NF. This amendment would change future management direction for the lands transferred from matrix to LSR. Additional mitigations for impacts to LSRs are included in the PCGP FEIS in Appendix L.

• By amending Standards and Guidelines for Fisheries (Umpqua NF LRMP, page IV-33, Forest-Wide) to allow the removal of effective shading vegetation where perennial streams are crossed by the PCGP. This potentially affects approximately 5 perennial streams by removing an estimated 3 acres of effective shade. This amendment applies only to the 75 foot right of way where the PCGP crosses perennial streams and does not change future management direction at any other location. Mitigations for impacts on fisheries are included in the FERC FEIS for the PCGP in Appendix L.

• By waiving restrictions on detrimental soil conditions from displacement and compaction within the Right of Way of the PCGP. Standards and Guidelines for Soils (Umpqua NF LRMP, page IV-67) requires that not more than 20% of the project area should have detrimental compaction, displacement or puddling after completion of the project. This amendment applies only to the project area of the PCGP and does not change future management direction. Mitigations for soils with detrimental conditions are included in the PCGP FEIS in Appendix L.

• By amending prescriptions C2-I, C2-II, C2-III, C2-IV, C2-V, and C2-VI (Umpqua NF LRMP IV-169-182) to allow the PCGP to cross Riparian Areas and run parallel to streams. This potentially affects approximately 0.8 of an acre of Riparian Reserve. This amendment applies only to the project area of the PCGP and does not change future management direction. Mitigations for potential adverse impacts from Project stream crossings are included in the FEIS for the PCGP in Appendix L.

Winema National Forest—The Forest Service proposes to amend the Winema NF LRMP as follows:

• By amending Standards and Guidelines for Management Area 3 (Winema NF LRMP, page 4-103-4, Lands) to allow the 95 foot wide PCGP corridor in MA-3 from the Forest Boundary to the Clover Creek Road corridor. This corridor is approximately 1 mile long and affects and potentially affects approximately 11 acres. This amendment applies only to the project area of the PCGP and does not change future management direction. Mitigations for potential adverse impacts to scenic values are included in the FEIS for the PCGP in Appendix L.

• By allowing more time to achieve Visual Quality Objectives (VQO) in the vicinity where the 75 foot wide PCGP corridor crosses the Dead Indian Memorial Highway. Standards and Guidelines for Scenic Management, Foreground Retention (Winema NF LRMP, page 4-103, MA 3A, Foreground Retention) require visual quality objectives for a given location be achieved within 1 year of completion of the project. The Forest Service proposes to allow a longer time frame to meet the specified VQO at this location. This amendment applies only to the project area of the PCGP and does not change future management direction. Mitigations for visual impacts are included in the FEIS for the PCGP in Appendix L.

• By allowing more time to meet Visual Quality Objectives (VQO) for Scenic Management, Foreground Partial Retention where the PCGP is in the vicinity of the Clover Creek Road from approximate pipeline milepost 170 to 175. This potentially affects approximately 50 acres where it will take additional time to meet the Partial Retention standard. Standards and Guidelines for Foreground Partial Retention (Winema NF LRMP, page 4-107, MA 3B) requires that visual quality objectives be met within 1 year of completion of a project. The Forest Service proposes to allow a longer time frame to meet the amended VQO at this location. This amendment applies only to the project area of the PCGP in the vicinity of the Clover Creek Road and does not change future management direction. Mitigations for potential adverse impacts to scenic values are included in the FEIS for the PCGP in Appendix L.

• By waiving restrictions on detrimental soil conditions from displacement and compaction within the Right of Way of the PCGP in all management areas. Standards and Guidelines for detrimental soil impacts (Winema NF LRMP, page 4-73, 12-5) in all affected management areas require that no more than 20% of the activity area be detrimentally compacted, puddled or displaced upon completion of a project. Additional mitigations for detrimental soil conditions are in the PCGP FEIS in Appendix L.

• By waiving restrictions on detrimental soil conditions from displacement and compaction within the 75 foot wide Right of Way of the PCGP within Management Area 8 Riparian Area. This potentially affects approximately 0.5 miles of Management Area 8 Riparian Area totaling an estimated 9.6 acres. Standards and Guidelines for Soil and Water, Management Area 8 (Winema NF LRMP, page 4-137, 2) require that not more than 10% of the total riparian zone in an activity area be in a detrimental soil condition upon the completion of a project. This amendment applies only to the project area of the PCGP and does not change future management direction. Mitigations for potential adverse soil impacts are included in the PCGP FEIS in Appendix L.

Lead Agency

The Forest Service is the Lead Agency for amendments of Forest Plans.

Responsible Official

The Responsible Officials for amendments of the Rogue River, Umpqua and Winema LRMPs are respectively Forest Supervisors, Scott D. Conroy, Clifford J. Dils and Karen Shimamoto.

Nature of Decision To Be Made

The nature of the decision to be made is whether the respective LRMPs would be amended if the FERC authorizes the PCGP.

Scoping Process

This notice of intent initiates the scoping process, which guides the development of the environmental impact statement. With this NOI, the Forest Service is requesting public comments on the proposed amendments of the Rogue River, Umpqua and Winema NF LRMPs.

It is important that reviewers provide their comments at such times and in such manner that they are useful to the agency's preparation of the environmental impact statement. Therefore, comments should be provided prior to the close of the comment period and should clearly articulate the reviewer's concerns and contentions. The submission of timely and specific comments can affect a reviewer's ability to participate in subsequent administrative appeal or judicial review.

Dated: June 8, 2009.
Clifford J. Dils,
Forest Supervisor.

[FR Doc. E9-14045 Filed 6-12-09; 8:45 am]

BILLING CODE 3410-11-P